DEPARTMENT OF LABOR

Employment and Training Administration

[TA-W-53,830]

J.S. Technos Corporation A Subsidiary of Bosch Corporation Russellville, KY; Notice of Termination of Investigation

Pursuant to section 221 of the Trade Act of 1974, investigation was initiated on December 18, 2003 in response to a worker petition filed by a company official on behalf of the workers at J.S. Technos, a subsidiary of Robert Bosch Corporation, Russellville, Kentucky.

The petitioner has requested that the petition be withdrawn. Consequently, the investigation has been terminated.

Signed at Washington, DC this 4th day of February 2004.
Linda G. Poole,
Certifying Officer, Division of Trade Adjustment Assistance.

[FR Doc. 04-3569 Filed 2-18-04; 8:45 am]

BILLING CODE 4510-30-P